DEPARTMENT OF TRANSPORTATION

Federal Aviation Administration

14 CFR Part 39

[Docket No. FAA-2011-0997; Directorate Identifier 2011-NM-043-AD; Amendment 39-16963; AD 2012-04-07]

RIN 2120-AA64

Airworthiness Directives; Airbus Airplanes

Correction

In rule document 2012-4498 appearing on pages 12989-12991 of the issue of Monday, March 5, 2012 make the following correction:

§ 39.13 [Corrected]

On page 12990, in the second column, in paragraph (g), in the last line, “EASA (or its delegated” should read “EASA (or its delegated agent).”

[FR Doc. C1-2012-4498 Filed 9-18-12; 8:45 am]

BILLING CODE 1505-01-D